DEPARTMENT OF TRANSPORTATION

Maritime Administration

[Docket No. MARAD-2019-0042]

Request for Comments on a New Information Collection

AGENCY: Maritime Administration, Department of Transportation.

ACTION: Notice and request for comments.

SUMMARY: In compliance with the Paperwork Reduction Act of 1995, this notice announces that the Information Collection Request (ICR) abstracted below is being forwarded to the Office of Management and Budget (OMB) for review and comments. A Federal Register Notice with a 60-day comment period soliciting comments on the following information collection was published on December 17, 2018.

DATES: Comments must be submitted on or before April 22, 2019.

ADDRESSES: Send comments regarding the burden estimate, including suggestions for reducing the burden, to the Office of Management and Budget, Attention: Desk Officer for the Office of the Secretary of Transportation, 725 17th Street NW, Washington, DC 20503.

FOR FURTHER INFORMATION CONTACT: You may contact Nuns Jain, Program Excellence and Quality Assurance Advisor, MAR-600.32, Department of Transportation, Maritime Administration, 1200 New Jersey Avenue SE, Washington, DC 20590, 202-385-0115.

SUPPLEMENTARY INFORMATION:

Title: Mariner Survey.

OMB Control Number: 2133-NEW.

Type of Request: New Information Collection.

Background: The Mariner Survey project will conduct a biennial survey of appropriately credentialed U.S. merchant mariners to determine their availability and willingness to serve on short notice on U.S. government-owned sealift ships or commercial ships during a period of National Need. Responses will be primarily collected via an online survey, with a mail survey option.

Respondents: Appropriately credentialed U.S. Merchant Mariners.

Affected Public: Individuals or Households.

Total Estimated Number of Responses: 6,545.

Frequency of Collection: Every two years.

Estimated Time per Respondent: 30 minutes.

Total Estimated Number of Annual Burden Hours: 3,273.

Public Comments Invited: Comments are invited on whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

(Authority: The Paperwork Reduction Act of 1995; 44 U.S.C. Chapter 35, as amended; and 49 CFR 1.93.)

* * * * *

Dated: March 15, 2019.
By Order of the Maritime Administrator.
T. Mitchell Hudson, Jr.,
Secretary, Maritime Administration.

[FR Doc. 2019-05316 Filed 3-20-19; 8:45 am]

BILLING CODE 4910-81-P